DEPARTMENT OF STATE

[Public Notice 3210]

Language and Culture Enrichment Program; Bureau of Educational and Cultural Affairs; Request for Proposals

SUMMARY: The Office of Citizen Exchanges, Youth Programs Division, of the Bureau of Educational and Cultural Affairs announces an open competition for a Language and Culture Enrichment Program. Public and private non-profit organizations meeting the provisions described in IRS regulation 26 CFR 1.501(c) may submit proposals to conduct a four-week homestay-based, English language and cultural enrichment program in July 2000 for 40 students from the New Independent States (NIS) of the former Soviet Union selected for the Freedom Support Act (FSA) Future Leaders Exchange (FLEX) program. Approximately 15 of the participants will be students with physical disabilities who were specially recruited and selected. The remaining 25 students will be from more isolated regions of the NIS, where there is less opportunity for quality English instruction. The purpose of the program is to raise the English capability of these students to the level where they are able to attend regular classes when their academic program starts in fall. Additionally, this program will ease the acculturation process when students transit to their permanent families and communities. Funds requested for this project may not exceed $80,000.

Program Information

Objectives: To prepare a select group of students with special needs to attend school in the fall and perform at a level closer to that of those FSA FLEX students that make up the majority of the program finalists. To provide students with cultural tools and strategies that will foster a successful exchange experience.

Background: Academic year 2000/2001 will be the eighth year of the FSA/FLEX program, which now includes over 7000 alumni. This component of the NIS Secondary School Initiative was initially authorized under the FREEDOM Support Act of 1992 and is funded by annual allocations from the Foreign Operations and Department of State appropriations. The goals of the program are to promote mutual understanding and foster a relationship between the people of the NIS and the U.S.; assist the successor generation of the NIS to develop the qualities it will need to lead in the transformation of those countries in the 21st century; and to promote democratic values and civic responsibility by giving NIS youth the opportunity to live in American society for an academic year.

During the program's early years, there was concern that students from the more remote regions of the NIS might be underrepresented because the lack of English competence in those regions could prevent applicants from meeting the rigorous English language requirements of the FLEX recruitment process, including attaining a reasonable score on the Secondary Level English Proficiency (SLEP) examination. To address this concern, a pre-academic year English language enrichment program was developed so that some students from the remote areas could be selected whose SLEP scores were slightly lower than average. In subsequent years, lack of English competence in the remote regions of the NIS has become less of a problem. However, the Bureau has added a component focusing on students with disabilities, who do have a need for some special training before initiating their academic year program. The enrichment program for which proposals are being solicited here are in support of both groups of students. The essential components of the enrichment program are:

• A four-week course of study in English, approximately 5.5 hours a day.

• Programming that builds on cultural issues that will have been introduced at the pre-departure orientation for all FSA FLEX students.

• Orientation programming that addresses the special needs of the students with disabilities and their unique adjustment issues.

• Lodging with volunteer host families.

• The students' transition to their permanent host families and communities.

Other Components: Two organizations have already been awarded grants to perform the following functions: recruitment and selection of students; targeted recruitment for students with disabilities; assistance in documentation and preparation of IAP-66 forms; preparation of cross-cultural materials; pre-departure orientation; international travel from home to host community and return; facilitation of ongoing communication between the natural parents and placement organizations, as needed; maintenance of a student database and provision of data to Department of State; and ongoing follow-up with alumni upon their return to the NIS.

Additionally, 16 organizations have been selected through a grants competition to place the 2000-2001 FSA FLEX students in schools and homestays for the academic year, to monitor their progress, and to conduct cultural enrichment activities. The organization selected for the Language and Culture Enrichment Program will be asked to interact with the organizations to ensure the students' smooth transition from the pre-academic training to their permanent placements.

Guidelines: Applicants should consult the Project Objectives Goals and Implementation (POGI) guidelines for a detailed statement of work. The program must take place from mid-July to mid-August 2000. The venue for the program should be one with minor distractions to enable students to focus on the coursework and experience life in a typical American family and community. It should be conducive to a smooth transition to the students' permanent placements and have resources that can be drawn upon for cultural enrichment.

Participants will travel on J-1 visas issued by the Department of State using a government program number. The students will be covered by the health and accident insurance policies used by their placement organization. The grantee organization will acknowledge its responsibility to coordinate with the appropriate organization(s) any time treatment is needed for the duration of the students' participation in the enrichment program.

Applicants may assume that grant activity will begin by June 1, 2000. Programs must comply with J-1 visa regulations. Please refer to the Solicitation Package for further information.

Budget Guidelines: Applicants must submit a comprehensive budget for the entire program. One award will be made, not to exceed $80,000. There must be a summary budget as well as breakdowns reflecting both administrative and program budgets. Applicants may provide separate sub-budgets for each program component, phase, location, or activity to provide clarification. See POGI for allowable costs for the program. Please refer to the Solicitation Package for complete budget guidelines and formatting instructions.

Announcement Title and Number: All correspondence with the Bureau concerning this RFP should reference the above title and number ECA/PE/C/PY-00-37.

FOR FURTHER INFORMATION, CONTACT: Youth Programs Division, ECA/PE/C/PY, Room 568, U.S. Department of State, 301 4th Street, S.W., Washington, D.C. 20547, tel. (202) 619-6299, fax (202) 619-5311, e-mail daronson@usia.gov to request a Solicitation Package. The Solicitation Package contains detailed award criteria, required application forms, specific budget instructions, and standard guidelines for proposal preparation. Please specify Bureau Program Officer Diana Aronson on all other inquiries and correspondence.

Please read the complete Federal Register announcement before sending inquiries or submitting proposals. Once the RFP deadline has passed, Bureau staff may not discuss this competition with applicants until the proposal review process has been completed.

To Download a Solicitation Package Via Internet: The entire Solicitation Package may be downloaded from the Bureau's website at http://e.usia.gov/education/rfps. Please read all information before downloading.

Deadline for Proposals: All proposal copies must be received at the Bureau of Educational and Cultural Affairs by 5 p.m. Washington, DC time on Monday, February 28, 2000. Faxed documents will not be accepted at any time. Documents postmarked the due date but received on a later date will not be accepted. Each applicant must ensure that the proposals are received by the above deadline.

Applicants must follow all instructions in the Solicitation Package. The original and seven copies of the application should be sent to: U.S. Department of State, SA-44, Bureau of Educational and Cultural Affairs, Ref.: ECA/PE/C/PY-00-37, Program Management, ECA/EX/PM, Room 336, 301 4th Street, SW, Washington, DC 20547.

Applicants must also submit the “Executive Summary” and “Proposal Narrative” sections of the proposal on a 3.5″ diskette, formatted for DOS. These documents must be provided in ASCII text (DOS) format with a maximum line length of 65 characters. The Bureau will transmit these files electronically to Bureau officers for its review, with the goal of reducing the time it takes to get comments for the Bureau's grants review process.

Diversity, Freedom and Democracy Guidelines

Pursuant to the Bureau's authorizing legislation, programs must maintain a non-political character and should be balanced and representative of the diversity of American political, social, and cultural life. “Diversity” should be interpreted in the broadest sense and encompass differences including, but not limited to ethnicity, race, gender, religion, geographic location, socio-economic status, and physical challenges. Applicants are strongly encouraged to adhere to the advancement of this principle both in program administration and in program content. Please refer to the review criteria under the ‘Support for Diversity’ section for specific suggestions on incorporating diversity into the total proposal. Public Law 104-319 provides that “in carrying out programs of educational and cultural exchange in countries whose people do not fully enjoy freedom and democracy,” the Bureau “shall take appropriate steps to provide opportunities for participation in such programs to human rights and democracy leaders of such countries.” Proposals should reflect advancement of this goal in their program contents, to the full extent deemed feasible.

Year 2000 Compliance Requirement (Y2K Requirement)

The Year 2000 (Y2K) issue is a broad operational and accounting problem that could potentially prohibit organizations from processing information in accordance with Federal management and program specific requirements including data exchange with the Bureau. The inability to process information in accordance with Federal requirements could result in grantees' being required to return funds that have not been accounted for properly.

The Bureau therefore requires all organizations use Y2K compliant systems including hardware, software, and firmware. Systems must accurately process data and dates (calculating, comparing and sequencing) both before and after the beginning of the year 2000 and correctly adjust for leap years.

Additional information addressing the Y2K issue may be found at the General Services Administration's Office of Information Technology website at http://www.itpolicy.gsa.gov.

Review Process

The Bureau will acknowledge receipt of all proposals and will review them for technical eligibility. Proposals will be deemed ineligible if they do not fully adhere to the guidelines stated herein and in the Solicitation Package. All eligible proposals will be reviewed by the program office, as well as other Bureau officers, where appropriate. Eligible proposals will be forwarded to panels of Department of State officers for advisory review. Proposals may also be reviewed by the Office of the Legal Adviser or by other Bureau elements. Final funding decisions are at the discretion of the Department of State's Under Secretary for Public Diplomacy and Public Affairs. Final technical authority for assistance awards (grants or cooperative agreements) resides with the Bureau's Grants Officer.

Review Criteria

Technically eligible applications will be competitively reviewed according to the criteria stated below. These criteria are not rank ordered and all carry equal weight in the proposal evaluation:

1. Quality of the program idea: Proposals should exhibit originality, substance, precision, and relevance to the Bureau's mission. Integration of language and culture components should adhere to stated objectives of this project.

2. Program planning: Detailed agenda and relevant work plan should demonstrate substantive undertakings and logistical capacity. Agenda and plan should adhere to the program overview and guidelines described above. Refer to POGI regarding elements that should be included in a calendar of activities/timetable.

3. Ability to achieve program objectives: Objectives should be measurable, tangible and flexible. Proposals should clearly demonstrate how the institution will meet the program's objectives and plan.

4. Support of Diversity: Proposals should demonstrate substantive support of the Bureau's policy on diversity. Achievable and relevant features should be cited in both program administration (selection of staff and speakers, program venue, host families) and program content (curriculum, orientation and wrap-up sessions, program meetings, and resource materials).

5. Institutional Capacity: Proposed personnel and institutional resources should be adequate and appropriate to achieve the program or project's goals. Coordinator responsible for curriculum, materials development and instruction should demonstrate relevant ESL/U.S. culture teaching experience and qualifications.

6. Institution's Record/Ability: Proposals should demonstrate an institutional record of successful language/culture programs, including responsible fiscal management and full compliance with all reporting requirements for past Bureau grants as determined by Bureau Grant Staff. The Bureau will consider the past performance of prior recipients and the demonstrated potential of new applicants.

7. Project Evaluation: Proposals should include a plan to evaluate the program's success, both as the activities unfold and at the end of the program. A draft survey questionnaire, tests, or other techniques plus description of a methodology to use to link outcomes to original project objectives is recommended. Successful applicant will be expected to submit a final report after project is concluded.

8. Cost-effectiveness: The overhead and administrative components of the proposal, including salaries and honoraria, should be kept as low as possible. All other items should be necessary and appropriate.

9. Cost-sharing: Proposals should maximize cost-sharing through other private sector support as well as institutional direct funding contributions.

Authority

Overall grant making authority for this program is contained in the Mutual Educational and Cultural Exchange Act of 1961, Public Law 87-256, as amended, also known as the Fulbright-Hays Act. The purpose of the Act is “to enable the Government of the United States to increase mutual understanding between the people of the United States and the people of other countries * * * to strengthen the ties which unite us with other nations by demonstrating the educational and cultural interests, developments, and achievements of the people of the United States and other nations * * * and thus to assist in the development of friendly, sympathetic and peaceful relations between the United States and the other countries of the world.” The funding authority for the program above is provided through legislation appropriating funds annually for Department of State's exchange programs.

Notice

The terms and conditions published in this RFP are binding and may not be modified by any Bureau representative. Explanatory information provided by the Bureau that contradicts published language will not be binding. Issuance of the RFP does not constitute an award commitment on the part of the Government. The Bureau reserves the right to reduce, revise, or increase proposal budgets in accordance with the needs of the program and the availability of funds. Awards made will be subject to periodic reporting and evaluation requirements.

Notification

Final awards cannot be made until funds have been appropriated by Congress, allocated and committed through internal Bureau procedures.

Dated: January 27, 2000.
Evelyn S. Lieberman,
Under Secretary for Public Diplomacy and Public Affairs, Department of State.

[FR Doc. 00-2405 Filed 2-2-00; 8:45 am]

BILLING CODE 4710-11-P